DEPARTMENT OF ENERGY

Energy Information Administration

Agency Information Collection Extension

AGENCY: U.S. Energy Information Administration (EIA), Department of Energy.

ACTION: Notice.

SUMMARY: EIA submitted an information collection request for extension as required by the Paperwork Reduction Act of 1995. The information collection requests a three-year extension with changes to its Petroleum Supply Reporting System (PSRS), OMB Control No. 1905-0165. The PSRS consists of six weekly surveys that make up the Weekly Petroleum Supply Reporting System (WPSRS), eight monthly surveys, and one annual survey. The weekly petroleum and biofuels supply surveys collect data on petroleum refinery operations, blending, biofuels production, inventory levels, imports of crude oil, petroleum products, and biofuels from samples of operating companies. The monthly and annual petroleum and biofuels supply surveys collect data on petroleum refinery operations, blending, biofuels production, natural gas plant liquids production, inventory levels, imports, inter-regional movements, and storage capacity for crude oil, petroleum products, and biofuels.

DATES: Comments regarding this information collection must be received on or before July 24, 2019. If you anticipate any difficulties in submitting your comments by the deadline, contact the DOE Desk Officer at (202) 395-4718.

ADDRESSES: Written comments should be sent to

DOE Desk Officer: Brandon DeBruhl, Office of Information and Regulatory Affairs, Office of Management and Budget, New Executive Office Building, Room 10102, 735 17th Street NW, Washington, DC 20503, Brandon_F_DeBruhl@omb.eop.gov,

And send a copy to

Mr. Michael Conner, U.S. Department of Energy, U.S. Energy Information Administration EI-25, 1000 Independence Ave., SW, Washington, DC 20585, PetroleumSupplyForms@eia.gov

FOR FURTHER INFORMATION CONTACT: Requests for additional information or copies of the information collection instrument and instructions should be directed to Michael Conner, 202-586-1795, PetroleumSupplyForms@eia.gov, https://www.eia.gov/survey/.

SUPPLEMENTARY INFORMATION: This information collection request contains:

(1) OMB Control Number No: 1902-0165;

(2) Information Collection Request Title: Petroleum Supply Reporting System;

The surveys included in this information collection request are:

• Form EIA-800 Weekly Refinery and Fractionator Report

• Form EIA-802 Weekly Product Pipeline Report

• Form EIA-803 Weekly Crude Oil Stocks Report

• Form EIA-804 Weekly Imports Report

• Form EIA-805 Weekly Bulk Terminal Report

• Form EIA-809 Weekly Oxygenate Report

• Form EIA-810 Monthly Refinery Report

• Form EIA-812 Monthly Product Pipeline Report

• Form EIA-813 Monthly Crude Oil Report

• Form EIA-814 Monthly Imports Report

• Form EIA-815 Monthly Bulk Terminal Report

• Form EIA-816 Monthly Natural Gas Plant Liquids Report

• Form EIA-817 Monthly Tanker and Barge Movement Report

• Form EIA-819 Monthly Biofuels, Fuels from Non-Biogenic Wastes, Fuel Oxygenates, Isooctane, and Isooctene Report

• Form EIA-820 Annual Refinery Report

(3) Type of Request: Three-year extension with changes;

(4) Purpose: The purpose of the PSRS is to collect detailed petroleum industry data to assess the nation's petroleum supply and energy data users' needs for credible, reliable, and timely energy information on production, receipts, inputs, movements, and stocks of crude oil, petroleum products, natural gas plant liquids, and related biofuels in the United States. This information is used to evaluate supply conditions for crude oil and refined petroleum markets. Forms EIA-800, EIA-802, EIA-803, EIA-804, EIA-805 and EIA-809 are designed to provide an early, initial estimate of weekly petroleum refinery operations, inventory levels, and imports of selected petroleum products. The WPSRS is the only comprehensive weekly government source of data about the current status of petroleum supply and disposition in the upstream petroleum markets for the United States. Forms EIA-810, EIA-812, EIA-813, EIA-814, EIA-815, EIA-816, EIA-817, and EIA-819 are designed to provide statistically reliable and comprehensive monthly information on petroleum refining operations to EIA, federal agencies, and the private sector for use in forecasting, policy making, planning, and analysis. Form EIA-820 is an annual survey that provides data on refinery capacities, fuels consumed, natural gas consumed as hydrogen feedstock, and crude oil receipts by method of transportation for operating and idle petroleum refineries (including new refineries under construction), and refineries that shutdown during the previous year.

(4a) Proposed Changes to Information Collection:

Form EIA-800, Weekly Refinery and Fractionator Report

Add new rows, under the column headings for Input; Production; and Ending Stocks, to separately report unfinished oils. This change separates data on unfinished oils that was previously included in total input. This provides detailed product coverage and improves data accuracy.

Form EIA-819, Monthly Biofuels, Fuels From Non-Biogenic Wastes, Fuel Oxygenates, Isooctane, and Isooctene Report

EIA discontinued Form EIA-22M and combined the data elements collected on that form with Form EIA-819 to create a single survey instrument under Form EIA-819 to cover all biofuels (including renewable fuels not currently tracked on any EIA survey), fuel oxygenates (ETBE, MTBE), and non-refinery producers of isooctane. The new Form EIA-819 collects consistent volumetric balance data on petroleum and biofuel blending at biofuel production plants and feedstock inputs for all biofuels. Form EIA-819 will also expand the scope of EIA biofuel data collection to include producers of renewable diesel fuel and other renewable fuels that are currently not collected. All facilities will report production capacity as well as receipts, production, input, shipments, beginning and ending stocks, as well as stocks in transit to the facility at the end of the report month. Part 9 collects consumption of feedstocks for production of biofuel and renewable fuels and annual fuels consumed at the facility. Form EIA-819 improves accuracy and consistency of biofuel and oxygenate production and blending including blending with petroleum fuels. Form EIA-22M is discontinued since the same information that was reported on Form EIA-22M will be collected on the revised Form EIA-819.

Form EIA-810, EIA-813, EIA-815

• Discontinue collection of storage capacity for September, but continue to collect storage capacity once each year as of March 31. EIA determined that storage capacity data collected once each year (as of March 31) are adequate for policy analysis and assessing market supply conditions.

• Rename the column heading idle storage capacity to temporarily out of service. EIA has found the phrase temporarily out of service to be more consistent than the term idle when describing storage capacity that is not in use at the time of reporting.

Forms EIA-810, EIA-812, EIA-815

Discontinue collection of data for MTBE, ETBE, and other oxygenates. Stocks and other data for MTBE, ETBE, and other fuel oxygenates at refineries and terminals are no longer needed for EIA to assess U.S. and regional volumetric petroleum supply balances. Production of MTBE, ETBE, and other fuel oxygenates will continue to be collected on Form EIA-819.

Forms EIA-810, EIA-812, EIA-815

Rename pentanes plus to natural gasoline. Pentanes plus and natural gasoline are equivalent. Renaming will make the forms and instructions consistent with the rest of the EIA website.

Form EIA-812, Monthly Product Pipeline Report

• In Parts 3 and 4, discontinue collection of residual fuel stocks and delete the row for residual fuel (product code 511). The data has shown that residual fuel oil is a product not typically moved by pipeline.

• In Parts 3 and 4, discontinue collection of renewable fuel movements, except ethanol. EIA has found that inter-regional pipeline movements of these renewable fuels seldom occur and these data have limited utility for assessing fuel supply conditions.

Forms EIA-802, EIA-805, EIA-812, EIA-815, EIA-817

Discontinue collection of stocks of refinery olefins. EIA determined that the collection of data on stocks of refinery olefins is no longer needed. Stocks of refinery olefins will continue to be collected on Forms EIA-800 and EIA-810 to maintain an overall refinery balance.

Form EIA-815, Monthly Bulk Terminal Report

Add collection of stocks of ethane, propane, normal butane, isobutene, and natural gasoline natural gas liquids (NGL) held at petrochemical plants. Petrochemical plant operators are a special class of end user storage because they are able to function in ways that are similar to the commercial terminals surveyed by EIA. Including petrochemical plant storage improves data accuracy and improves market assessments of NGL supply availability.

Forms EIA-810, EIA-812, EIA-814, EIA-815, EIA-817

Replace biofuel reporting categories identified on current surveys as biomass-based diesel fuel, other renewable diesel fuel, and other renewable fuels with the new categories biodiesel, renewable diesel fuel, and other renewable fuels and intermediate products. These changes clarify the products and improve the utility of U.S. and regional data.

(5) Annual Estimated Number of Survey Respondents: 4,490.

EIA-800 consists of 125 respondents

EIA-802 consists of 46 respondents

EIA-803 consists of 80 respondents

EIA-804 consists of 100 respondents

EIA-805 consists of 745 respondents

EIA-809 consists of 156 respondents

EIA-810 consists of 139 respondents

EIA-812 consists of 100 respondents

EIA-813 consists of 205 respondents

EIA-814 consists of 360 respondents

EIA-815 consists of 1,485 respondents

EIA-816 consists of 450 respondents

EIA-817 consists of 40 respondents

EIA-819 consists of 320 respondents

EIA-820 consists of 139 respondents

(6) Annual Estimated Number of Total Responses: 102,431 total responses.

(7) Annual Estimated Number of Burden Hours: 207,080 total hours.

(8) Annual Estimated Reporting and Recordkeeping Cost Burden: EIA estimates that there are no additional costs to respondents associated with the surveys other than the costs associated with the burden hours. The information collected on the forms is maintained by companies in their data systems during their normal course of business. The cost of burden hours to the respondents is estimated to $16,259,922 (207,080 burden hours times $78.52 per hour).

Statutory Authority: 15 U.S.C. 772(b) and 42 U.S.C. 7101 et seq.

Signed in Washington, DC, on June 18, 2019.
Nanda Srinivasan,
Director, Office of Survey Development and Statistical Integration, U.S. Energy Information Administration.

[FR Doc. 2019-13295 Filed 6-21-19; 8:45 am]

BILLING CODE 6450-01-P